DEPARTMENT OF THE INTERIOR

Bureau of Land Management

[OR-035-04-1430-ES; GP-04-178]

Recreation and Public Purposes (R&PP) Act Classification, OR 60165

AGENCY: Bureau of Land Management (BLM), Interior.

ACTION: Notice of realty action.

SUMMARY: An area of approximately 1.16 acres of public land in Baker County has been examined and found suitable for classification for lease to Baker County under the provisions of the Recreation and Public Purposes Act, as amended (43 U.S.C. 869 et seq.). The county proposes to use the land to establish a small roadside rest area along Highway 86 in eastern Oregon.

DATES: Submit comments on or before August 30, 2004.

ADDRESSES: Address all written comments concerning this Notice to Penelope Dunn Woods, Field Manager, Baker Field Office, 3165 10th Street, Baker City, Oregon 97814. Electronic format submittal will not be accepted.

FOR FURTHER INFORMATION CONTACT: Steve Davidson, Realty Specialist, Baker Field Office, Vale District, at (541) 523-1349.

SUPPLEMENTARY INFORMATION: The proposed lease area lies adjacent to Highway 86 and is within the following described public land:

Willamette Meridian, Oregon

T. 9 S., R. 44 E.,

Sec. 6, lot 4.

The proposed lease area contains 1.16 acres, more or less, in Baker County, Oregon. The land is not needed for Federal purposes. The lease is consistent with the Baker Resource Management Plan of July 12, 1989, and would be in the public interest.

The lease, when issued, will be subject to the following terms, conditions and reservations:

1. Provisions of the Recreation and Public Purposes Act and to all applicable regulations of the Secretary of the Interior.

2. All valid existing rights documented on the official public land records at the time of lease issuance.

3. All minerals shall be reserved to the United States, together with the right to prospect for, mine, and remove the minerals.

4. Any other reservations that the authorized officer determines appropriate to ensure public access and proper management of Federal lands and interests therein.

Upon publication of this notice in the Federal Register, the land will be segregated from all forms of appropriation under the public land laws, including the general mining laws, except for lease or conveyance under the Recreation and Public Purposes Act, and leasing under the mineral leasing laws. For a period of 45 days from the date of publication of this notice, interested persons may submit comments regarding the proposed lease or classification of the land to the above address.

Classification Comments: Interested parties may submit written comments involving the suitability of the land for a roadside rest area. Comments on the classification are restricted to whether the land is physically suited for the proposal, whether the use will maximize the future use or uses of the land, whether the use is consistent with local planning and zoning, or if the use is consistent with State and Federal programs.

Application Comments: Interested parties may submit written comments regarding the specific use proposed in the application and site plan, whether the BLM followed proper administrative procedures in reaching the decision, or any other factor not directly related to the suitability of the land for a roadside rest area.

Comments, including names, street addresses, and other contact information of respondents, will be available for public review. Individual respondents may request confidentiality. If you wish to request that the BLM consider withholding your name, street address and other contact information, e.g., Internet address, FAX or phone number, from public review or from disclosure under the Freedom of Information Act, you must state this prominently at the beginning of your written comment. The BLM will honor requests for confidentiality on a case-by-case basis to the extent allowed by law. The BLM will make available for public inspection in their entirety all submissions from organizations and businesses, and from individuals identifying themselves as representatives or officials of organizations or businesses.

Any adverse comments will be reviewed by the State Director. In the absence of any adverse comments, the classification will become effective 60 days from the date of publication of this notice in the Federal Register.

(Authority: 43 CFR 2741.5(h)(3))
Dated: May 28, 2004.
Penelope Dunn Woods,
Field Manager, Baker Resource Area.

[FR Doc. 04-15885 Filed 7-13-04; 8:45 am]

BILLING CODE 4310-33-P